DEPARTMENT OF ENERGY

Federal Energy Regulatory Commission

Notice of Application for Non-Project Use of Project Lands and Waters and Soliciting Comments, Motions To Intervene, and Protests

March 7, 2007.

Take notice that the following application has been filed with the Commission and is available for public inspection:

a. Application Type: Non-Project Use of Project Lands and Waters.

b. Project No: 1490-044.

c. Date Filed: February 12, 2007.

d. Applicant: Brazo River Authority.

e. Name of Project: Morris Sheppard Project.

f. Location: Brazos River in Palo Pinto County, TX. This project does not occupy any federal or tribal lands.

g. Filed Pursuant to: Federal Power Act, 16 U.S.C. 791(a)-825(r).

h. Applicant Contact: Mr. Kent Rindy, Upper Basin Regional Manager, 4600 Cobbs Drive, P.O. Box 7555, Waco, TX, 76714; (254) 761-3100.

i. FERC Contacts: Any questions on this notice should be addressed to Ms. Shana High at (202) 502-8674.

j. Deadline for filing comments and or motions: April 9, 2007.

All documents (original and eight copies) should be filed with: Secretary, Federal Energy Regulatory Commission, 888 First Street, NE., Washington DC 20426. Please include the project number (P-1490-044) on any comments or motions filed. Comments, protests, and interventions may be filed electronically via the Internet in lieu of paper. See, 18 CFR 385.2001(a)(1)(iii) and the instructions on the Commission's Web site under the e-Filing link. The Commission strongly encourages e-filings.

k. Description of Proposal: In 2004, the Brazos River Authority (BRA) requested a permit for a 302 slip facility (120 existing and 182 proposed) at Hill Country Harbor Marina on Possum Kingdom Lake. The permit was authorized by the Commission on June 1, 2005. In January 2007, BRA discovered that the facility that was proposed and approved incorrectly identified the number of boat slips. While the footprint of the facility remains virtually unchanged, the BRA is requesting authorization for 402 total boat slips. The remainder of the application remains unchanged as the slips will be constructed off-site and floated into place, and no dredging or excavation will be necessary.

l. Location of the Applications: The filings are available for review at the Commission in the Public Reference Room, located at 888 First Street, NE., Room 2A, Washington, DC 20426, or may be viewed on the Commission's website at http://www.ferc.gov using the “eLibrary” link. Enter the docket number excluding the last three digits in the docket number field to access the document. For assistance, please call the Helpline at (866) 208-3676 or contact FERCOnLineSupport@ferc.gov. For TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-4478 Filed 3-12-07; 8:45 am]

BILLING CODE 6717-01-P